DEPARTMENT OF JUSTICE

Antitrust Division

Notice Pursuant to the National Cooperative Research and Production Act of 1993_Telemanagement Forum

Notice is hereby given that, on June 1, 2000, pursuant to section 6(a) of the National Cooperative Research and Production Act of 1993, 15 U.S.C. 4301 et seq. (“the Act”), Telemanagement Forum (“the Forum”) has filed written notifications simultaneously with the Attorney General and the Federal Trade Commission disclosing changes in its membership status. The notifications were filed for the purpose of extending the Act's provisions limiting the recovery of antitrust plaintiffs to actual damages under specified circumstances. Specifically, Micromuse, Inc., Dallas, TX; AT&T, Middletown, NJ; KPMG Consulting, Short Hills, NJ; Sprint, Irving, TX; Computer Associates International Inc., Milan, Italy; Viryanet, Waltham, MA; PriceWaterhouseCoopers, Phoenix, AZ; Infostrada S.p.A., Milan, Italy; Trendium, Inc., Ft. Lauderdale, FL; and Sycamore Networks, Chelmsford, MA have become Corporate Members. BusinessEdge Solutions Inc., Edison, NJ; Cygent, Inc., San Francisco, CA; DERA (Defense Evaluation and Research Agency), Dera Farnborough, Hants, England, United Kingdom; CoSine Communications, Redwood City, CA; Active Software, Santa Clara, CA; Concord Communications, Inc., Marlboro, MA; Cyras Systems, Inc., Fremont, CA; Corvia Networks Inc., Sunnyvale, VA; Incatel AS, Sandvika, Norway; Broadwing Inc., Austin, TX; Algety Telecom, Paris, France; Tyco Submarine Systems, Inc., Eatontown, NJ; Alltel Information Services, Alpharetta, GA; PRIDE S.p.A., Milan, Italy; PSI AG, Velbert, Germany; Connexn Technologies, Inc., Westminister, CO; Calico Commerce, San Jose, CA; Equador Consulting, Richmond, Surrey, England, United Kingdom; PQ Africa, Randjespark, South Africa; Edifecs Commerce, Inc., Conroe, TX; T-Soft, Herzelia, Israel; Emperative, Boulder, CO; Orillion, Tulsa, OK; OSIX AB, Stockholm, Sweden; Connectivity Plus Ltd., Windsor, Berkshire, England, United Kingdom; Tellium, Inc., Oceanport, NJ; TRW, Redondo Beach, CA; Kapsch AG, Vienna, Austria; CH2M Hill Communications Group, Englewood, CO; Cedere Corporation, Tyngsboro, MA; Altion Ltd., Dublin, Ireland; SL Corporation, Corte Madera, CA; Tele-Worx, Garland, TX; Menta, Cable & Televisio de Catalunya, Barcelona, SPAIN; Native Networks, Petah Tikva, Israel; Narus, Inc., Palo Alto, CA; and Ernst & Young, LLP, Sacramento, CA have become Associate Members. IEL, Windsor, Berkshire, England, United Kingdom; Business Management Group B.V., Amsterdam, The Netherlands; Telecom & Technology, Denville, NJ; Paltek Corporation, Yokohama, Japan; RichStone Ltd., Tokyo, Japan; and XDL Intervest Capital Corp., Toronto, Ontario, Canada have become Affiliate Members.

The following existing members have changed their names: AT&T Unisource is now called AUCS Communications Services, Hoofddorp, The Netherlands; The National Computing Centre is now called NCC Group, Manchester, England, United Kingdom; TTI Team Telecom is now called TTI Telecom, Givat Shmuel, ISRAEL; Open Management Software is now called Idea.com, Newark, CA; Stentor is now called Bell Canada, Ottawa, Ontario, Canada; GE Information Services is now called GE Global eXchange Services, Tampa, FL; Object Design is now called Excelon, Burlington, MA; BSW Telecoms is now called Dimension Data, Midrand, South Africa; NTT Mobile Communications Network, Inc. is now called NTT Group, Tokyo, Japan; Marconi Communications is now called Marconi PLC, Poole, Dorset, England, United Kingdom; and ObjectSwitch is now called Kabira Technologies, Inc., San Rafael, CA.

The following companies have changed Membership categories to Corporate: SBC Communications, Inc., St. Louis, MO; Oracle Corporation, Redwood Shores, CA; Cyras Systems, Inc., Fremont, CA; and Syndesis Limited, Richmond Hill, Ontario, Canada.

No other changes have been made in either the membership or planned activity of the group research project. Membership in this group research project remains open, and the Forum intends to file additional written notifications disclosing all changes in memberships.

On October 21, 1998, the Forum filed its original notification pursuant to section 6(a) of the Act. The Department of Justice published a notice in the Federal Register pursuant to section 6(b) of the Act on December 8, 1998 (53 FR 49615).

The last notification was filed with the Department on June 8, 1999. A notice was published in the Federal Register pursuant to section 6(b) of the Act on March 21, 2000 (65 FR 15177).

Constance K. Robinson,
Director of Operations, Antitrust Division.

[FR Doc. 01-6882 Filed 3-19-01; 8:45 am]

BILLING CODE 4410-11-M